NATIONAL INSTITUTE FOR LITERACY

[CFDA No. 84.257S]

NIFL Content Development Partners (Special Collections); Notice Inviting Applications for New Awards for Fiscal Year 2000

AGENCY: The National Institute for Literacy (NIFL).

ACTION: Notice; correction.

SUMMARY: The National Institute for Literacy published an announcement in the Federal Register of June 9, 2000, Notice of Awards being offered. The document contained an incorrect deadline submission date.

FOR FURTHER INFORMATION CONTACT: William Hawk; National Institute for Literacy; 1775 I Street, NW., Suite 730; Washington, DC 20006; Telephone: 202-233-2042; FAX: 202-233-2050; E-mail: whawk@nifl.gov

Correction

In the Federal Register of June 9, 2000, in FR Doc. 00-14547, on page 36729, in the second column, correct the submission “date” caption to read:

Public and private nonprofit organizations with knowledge of and expertise in adult literacy and the subject matter of the Special Collection, or consortia of such organizations.

Deadline for Applications: July 17, 2000.

Dated: July 20, 2000.
Sharyn Abbott,
Executive Officer.

[FR Doc. 00-15971 Filed 6-22-00; 8:45 am]

BILLING CODE 6055-01-M